DEPARTMENT OF ENERGY

Federal Energy Regulatory Commission

[Docket No. RP01-413-000]

East Tennessee Natural Gas Company; Notice of Tariff Filing

May 10, 2001.

Take notice that on May 7, 2001, East Tennessee Natural Gas Company (East Tennessee) tendered for filing as part of its FERC Gas Tariff, Second Revised Volume No. 1, the tariff sheets listed in Appendix A to the filing, to be effective June 7, 2001.

East Tennessee states that the purpose of this filing is to make the benefits and opportunities of e-commerce available to East Tennessee's existing and potential customers and to advance the Commission objectives as expressed in Order Nos. 637, et seq. of providing equality between the pipeline services and capacity release transactions.

East Tennessee states that the proposed tariff modifications permit customers to request service agreements electronically and to execute such contracts on line via the LINKr System, which will facilitate nominations and increase the efficiency and convenience of the East Tennessee contracting process for all customers.

East Tennessee states that copies of its filing have been mailed to all affected customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-12288 Filed 5-15-01; 8:45 am]

BILLING CODE 6717-01-M